DEPARTMENT OF DEFENSE

Office of the Secretary

Notification of an Open Meeting of the National Defense University Board of Visitors (BOV)

AGENCY: National Defense University, DoD.

ACTION: Notice of open meeting.

SUMMARY: The National Defense University (NDU), Designated Federal Officer, has scheduled a meeting of the Board of Visitors. The National Defense University Board of Visitors is a Federal Advisory Board. The Board meets twice each year in proceedings that are open to the public.

DATES: The meeting will be held on December 10-11, 2012, from 9:00 a.m. to 5:30 p.m. on December 10 and continuing on December 11 from 9:00 a.m. to 12:30 p.m.

ADDRESSES: The Board of Visitors meeting will be held at Lincoln Hall, Building 64, Room 1105, the National Defense University, 300 5th Avenue SW., Fort McNair, Washington, DC 20319-5066.

FOR FURTHER INFORMATION CONTACT: The point of contact for this notice of open meeting is Ms. Joycelyn Stevens at (202) 685-0079, Fax (202) 685-3920 or StevensJ7@ndu.edu.

SUPPLEMENTARY INFORMATION: The future agenda will include discussion on accreditation compliance, organizational management, strategic planning, resource management, and other matters of interest to the National Defense University. The meeting is open to the public; limited space made available for observers will be allocated on a first come, first served basis. Written statements to the committee may be submitted to the committee at any time or in response to a stated planned meeting agenda by FAX or email to the point of contact person listed in FOR FURTHER INFORMATION CONTACT. (Subject Line: Comment/Statement to the NDU BOV).

Dated: November 13, 2012.
Aaron Siegel,
Alternate OSD Federal Register Liaison Officer, Department of Defense.

[FR Doc. 2012-27939 Filed 11-15-12; 8:45 a.m.]

BILLING CODE 5001-06-P